DEPARTMENT OF AGRICULTURE

Submission for OMB Review; Comment Request

July 2, 2013.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology.

Comments regarding this information collection received by August 8, 2013 will be considered. Written comments should be addressed to: Desk Officer for Agriculture, Office of Information and Regulatory Affairs, Office of Management and Budget (OMB), New Executive Office Building, 725-17th Street NW., Washington, DC 20502. Commenters are encouraged to submit their comments to OMB via email to: OIRA_Submission@OMB.EOP.GOV or fax (202) 395-5806 and to Departmental Clearance Office, USDA, OCIO, Mail Stop 7602, Washington, DC 20250-7602. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Animal and Plant Health Inspection Service

Title: Imported Seed and Screening.

OMB Control Number: 0579-0124.

Summary of Collection: The United States Department of Agriculture (USDA) is responsible for preventing plant diseases or insect pests from entering the United States, preventing the spread of pests not widely distributed in the United States, and eradicating those imported pests when eradication is feasible. Under the authority of the Federal Seed Act of 1939, as amended, the USDA regulates the importation and interstate movement of certain agricultural and vegetable seeds. The Plant Protection & Quarantine Division of USDA's Animal & Plant Health Inspection Service (APHIS) has established a seed analysis program with Canada that allows U.S. companies that import seed for cleaning or processing, to enter into compliance agreements with APHIS. This program eliminates the need for sampling shipments of Canadian-origin seed at the border, and allows certain seed importers to clean seed without the direct supervision of an APHIS inspector. APHIS will collect information using forms PPQ 925, Seed Analysis Certificate and PPQ 519, Compliance Agreement, and other information activities to enable the importation of seeds for cleaning and processing so that they can enter into compliance agreements with USDA.

Need and Use of the Information: APHIS will collect information from PPQ 925 and PPQ 519 to ensure that imported seeds do not pose a health threat to U.S. agriculture. If the information were not collected there would be no way of preventing noxious weeds from entering the United States.

Description of Respondents: Business or other for-profit; Federal Government.

Number of Respondents: 1,168.

Frequency of Responses: Recordkeeping: Reporting: On occasion.

Total Burden Hours: 9,588.

Animal and Plant Health Inspection Service

Title: National Animal Health Monitoring System (NAHMS); Equine Herpesvirus Study.

OMB Control Number: 0579-0399.

Summary of Collection: Collection and dissemination of animal health data and information is mandated by 7 U.S.C. 391, the Animal Industry Act of 1884, which established the precursor of the Animal and Plant Health Inspection Service (APHIS), Veterinary Services (VS), the Bureau of Animal Industry. Legal requirements for examining and reporting on animal disease control methods were further mandated by 7 U.S.C. 8308 of the Animal Health Protection Act, “Detection, Control, and Eradication of Diseases and Pests,” May 13, 2002. APHIS is conducting an Equine Herpesvirus Myeloencephalopathy (EHM) study as part of an ongoing series of NAHMS studies on the U.S. livestock population. The purpose of the study is to collect information using questionnaires to identify risk factors for the neurologic form of equine herpesvirus (EHV-1) in horses called EHM. EHV-1 is an infection of horses that can cause respiratory disease, abortion in mares, neonatal foal death, and/or neurologic disease. The information collected through the Equine Herpesvirus study will be analyzed and organized into descriptive reports and/or peer reviewed publications.

Need and Use of the Information: APHIS will use the data collected from the EHM study to: (1) Understand the risk factors for EHM; (2) make recommendations for disease control; and (3) provide guidance on the best ways to mitigate future outbreaks based on a thorough analysis of the data. Without the information on outbreaks of EHM, the U.S.' ability to understand the risk factors would be reduced or nonexistent.

Description of Respondents: Business or other for-profit; State, Local or Tribal Government.

Number of Respondents: 626.

Frequency of Responses: Reporting: Other: One time.

Total Burden Hours: 778.

Ruth Brown,
Departmental Information Collection Clearance Officer.

[FR Doc. 2013-16359 Filed 7-8-13; 8:45 am]

BILLING CODE 3410-34-P